NATIONAL AERONAUTICS AND SPACE ADMINISTRATION

[Notice (12-064)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: September 6, 2012.

FOR FURTHER INFORMATION CONTACT: Bryan A. Geurts, Patent Counsel, Goddard Space Flight Center, Mail Code 140.1, Greenbelt, MD 20771-0001; telephone (301) 286-7351; fax (301) 286-9502.

NASA Case No.: GSC-15994-1: Photonic Choke-Joints for Dual-Polarization Waveguides;

NASA Case No.: GSC-15774-1: A Device and Method for Gathering Ensemble Data Sets;

NASA Case No.: GSC-15957-1: METHOD AND APPARATUS FOR IMAGE PLANE EXIT PUPIL CHARACTERIZATION;

NASA Case No.: GSC-15977-1: SYSTEM AND METHOD FOR PHASE RETRIEVAL FOR RADIO TELESCOPE AND ANTENNA CONTROL;

NASA Case No.: GSC-15964-1: WIND ION NEUTRAL COMPOSITION APPARATUS;

NASA Case No.: GSC-16250-1: SYSTEM AND METHOD FOR IMPROVED COMPUTATIONAL PROCESSING EFFICIENCY IN THE HSEG ALGORITHM;

NASA Case No.: GSC-15692-1: EXPANDABLE AND RECONFIGURABLE INSTRUMENT NODE ARRAYS;

NASA Case No.: GSC-15727-1: SOLDERLESS CIRCULARLY POLARIZED MICROWAVE ANTENNA ELEMENT;

NASA Case No.: GSC-14873-1: ADR SALT PILL DESIGN AND CRYSTAL GROWTH PROCESS FOR HYDRATED MAGNETIC SALTS;

NASA Case No.: GSC-15660-1: SYSTEM, TOOL AND METHOD FOR INTEGRATED CIRCUIT AND COMPONENT MODELING;

NASA Case No.: GSC-15934-1: SYSTEM AND METHOD FOR DETERMINING PHASE RETRIEVAL SAMPLING FROM THE MODULATION TRANSFER FUNCTION;

NASA Case No.: GSC-16109-1: WRENCH WITH EXPANDING TIP ASSEMBLY;

NASA Case No.: GSC-15815-1: LIDAR Luminance Quantizer;

NASA Case No.: GSC-16105-1: Molecular Adsorber Coating;

NASA Case No.: GSC-15976-1: Phase Retrieval System for Assessing Diamond-Turning and Other Optical Surface Artifacts;

NASA Case No.: GSC-15935-1: Discrete Fourier Transform in a Complex Vector Space;

NASA Case No.: GSC-15782-1: Low Power, Multi-Channel Pulse Data Collection System and Apparatus;

NASA Case No.: GSC-15947-1: Method for Utilizing Properties of the SINC(X) Function for Phase Retrieval on NYQUIST-Under-Sampled Data;

NASA Case No.: GSC-16100-1: System and Method for Command and Data Handling in Space Flight Electronics;

NASA Case No.: GSC-15936-1: Radiation-Hardened Hybrid Processor;

NASA Case No.: GSC-15953-1: Radiation-Hardened Processing System;

NASA Case No.: GSC-15979-1: System and Method for Multi-Scale Image Reconstruction Using Wavelets;

NASA Case No.: GSC-15839-1: Widely Tunable Optical Parametric Generator Having Narrow Bandwidth Field;

NASA Case No.: GSC-15911-1: Graphite Composite Panel Polishing Fixture and Assembly;

NASA Case No.: GSC-15951-1: Method of Making Lightweight, Single Crystal Mirror;

NASA Case No.: GSC-16029-1: System and Method for Nanostructure Apodization Mask for Transmitter Signal Suppression in a Duplex Telescope;

NASA Case No.: GSC-15826-1: Ion Source with Corner Cathode;

NASA Case No.: GSC-16016-1: System and Method for Growth of Enhanced Adhesion Carbon Nanotubes on Substrates;

NASA Case No.: GSC-15886-1: Low Power, Automated Weight Logger;

NASA Case No.: GSC-15520-1: Imaging Device;

NASA Case No.: GSC-15970-1: Electrospray Ionization for Chemical Analysis of Organic Modules for Mass Spectrometry;

NASA Case No.: GSC-15672-1: An Apparatus for Ultrasensitive Long-Wave Imaging Cameras;

NASA Case No.: GSC-16024-1: System and Method for Improved Computational Processing Efficiency in the HSEG Algorithm;

NASA Case No.: GSC-15792-1: Systems and Method for Progressive Band Selection for Hyperspectral Images;

NASA Case No.: GSC-15948-1: Suspension Device for Use with Low Temperature Refrigerator;

NASA Case No.: GSC-16096-1: A Genomics-Based Keyed Hash Message Authentication Code Protocol;

NASA Case No.: GSC-16006-1: System and Apparatus Employing Programmable Transceivers;

NASA Case No.: GSC-15163-2: Detector for Dual Band Ultraviolet Detection.

Sumara M. Thompson-King,
Acting Deputy General Counsel.

[FR Doc. 2012-21914 Filed 9-5-12; 8:45 am]

BILLING CODE P